DEPARTMENT OF COMMERCE

National Oceanic and Atmospheric Administration

RIN 0648-XG052

Mid-Atlantic Fishery Management Council (MAFMC); Public Meeting

AGENCY: National Marine Fisheries Service (NMFS), National Oceanic and Atmospheric Administration (NOAA), Commerce.

ACTION: Notice; public meeting.

SUMMARY: The Working Group of the Northeast Trawl Advisory Panel (NTAP) of the Mid-Atlantic Fishery Management Council will hold a meeting.

DATES: The meeting will be held on Monday, March 5, beginning at 10 a.m. and conclude by 3 p.m. For agenda details, see SUPPLEMENTARY INFORMATION.

ADDRESSES:

Meeting address: The meeting will be held at the Northeast Fisheries Science Center (NEFSC) office located on 28 Tarzwell Dr., Narragansett, RI 02882.

Council address: Mid-Atlantic Fishery Management Council, 800 N. State Street, Suite 201, Dover, DE 19901; telephone: (302) 674-2331; www.mafmc.org.

FOR FURTHER INFORMATION CONTACT: Christopher M. Moore, Ph.D., Executive Director, Mid-Atlantic Fishery Management Council, telephone: (302) 526-5255.

SUPPLEMENTARY INFORMATION: The purpose of this Working Group meeting is to: (1) Develop plans for work on the F/V Nobska, (2) compare NEFSC/Northeast Area Monitoring and Assessment Program gear performance, (3) determine priorities for future gear efficiency work, (4) evaluate the effects of NEFSC gear spread on survey indices, and (5) develop recommendations for NTAP's focus for the next 1-3 years.

Special Accommodations

The meeting is physically accessible to people with disabilities. Requests for sign language interpretation or other auxiliary aid should be directed to M. Jan Saunders, (302) 526-5251, at least 5 days prior to the meeting date.

Dated: February 21, 2018.
Tracey L. Thompson,
Acting Deputy Director, Office of Sustainable Fisheries, National Marine Fisheries Service.

[FR Doc. 2018-03838 Filed 2-23-18; 8:45 am]

BILLING CODE 3510-22-P